DEPARTMENT OF TRANSPORTATION

Federal Aviation Administration

14 CFR Part 39

[Docket No. 2001-SW-03-AD; Amendment 39-12354; AD 2001-15-19]

RIN 2120-AA64

Airworthiness Directives; Eurocopter France Model AS-365N3 Helicopters

AGENCY: Federal Aviation Administration, DOT.

ACTION: Final rule.

SUMMARY: This amendment adopts a new airworthiness directive (AD) for Eurocopter France (ECF) Model AS-365N3 helicopters that requires modifying the Full Authority Digital Engine Control (FADEC) software within 90 days after the effective date of this AD. This amendment is prompted by a design problem in the FADEC “power loss printed circuit board” software found during laboratory testing. The actions specified by this AD are intended to prevent loss of the FADEC one-engine-inoperative power and subsequent loss of control of the helicopter.

DATES: Effective September 6, 2001.

The incorporation by reference of certain publications listed in the regulations is approved by the Director of the Federal Register as of September 6, 2001.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Carroll Wright, Aviation Safety Engineer, FAA, Rotorcraft Directorate, Regulations Group, Fort Worth, Texas 76193-0111, telephone (817) 222-5120, fax (817) 222-5961.

SUPPLEMENTARY INFORMATION: A proposal to amend part 39 of the Federal Aviation Regulations (14 CFR part 39) to include an AD for ECF Model AS-365N3 helicopters was published in the Federal Register on May 9, 2001 (66 FR 23632). That action proposed to require modifying the FADEC software and wiring within 90 days after the effective date of the AD.

Interested persons have been afforded an opportunity to participate in the making of this amendment. No comments were received on the proposal or the FAA's determination of the cost to the public. The FAA has determined that air safety and the public interest require the adoption of the rule as proposed.

The FAA estimates that 1 helicopter of U.S. registry will be affected by this AD and that it will take approximately 17 work hours per helicopter to modify the wiring. The average labor rate is $60 per work hour. The FADEC software modification has an estimated turbomeca labor charge of $1200. The manufacturer has stated that the wiring kits will be furnished at no cost. Based on these figures, the total cost impact of the proposed AD on U.S. operators is estimated to be $2220.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-15-19 Eurocopter France:

Amendment 39-12354. Docket No. 2001-SW-03-AD.

Applicability: Model AS-365N3 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Within 90 days after the effective date of this AD, unless previously accomplished.

To prevent loss of the Full Authority Digital Engine Control (FADEC) one-engine-inoperative power and subsequent loss of control of the helicopter, accomplish the following:

(a) Modify the FADEC software in accordance with the Accomplishment Instructions of Eurocopter France Service Bulletin No. 71.00.13, Revision 1, dated October 17, 2000 (except this AD does not require contact with the manufacturer as specified in the caution statement in paragraph 2.B. and the Note I in paragraph 2.B.2.).

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) The modification shall be done in accordance with the Accomplishment Instructions of Eurocopter France Service Bulletin No. 71.00.13, Revision 1, dated October 17, 2000. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on September 6, 2001.

Note 3: The subject of this AD is addressed in Direction Generale De L'Aviation Civile (France) AD Nos. 2000-517-051(A) and 1998-517-048(A) R2, both dated December 13, 2000; 1998-517-048(A) R1, dated April 5, 2000; and 1998-517-048(A), dated January 13, 1999.

Issued in Fort Worth, Texas, on July 23, 2001.
Eric Bries,
Acting Manager, Rotorcraft Directorate, Aircraft Certification Service.

[FR Doc. 01-18972 Filed 8-1-01; 8:45 am]

BILLING CODE 4910-13-U